DEPARTMENT OF HOMELAND SECURITY

Coast Guard

33 CFR Part 117

[CGD01-04-007]

Drawbridge Operation Regulations; Passaic River, NJ

AGENCY: Coast Guard, DHS.

ACTION: Notice of temporary deviation from regulations.

SUMMARY: The Commander, First Coast Guard District, has issued a temporary deviation from the drawbridge operation regulations that govern the Route 280 (Stickel) Bridge, at mile 5.8, across the Passaic River at Harrison, New Jersey. This temporary deviation will allow the bridge to remain in the closed position from 8 a.m. to 4 p.m. on March 1, 2004. This action is necessary to facilitate scheduled maintenance at the bridge.

DATES: This deviation is effective from 8 a.m. to 4 p.m. on March 1, 2004.

FOR FURTHER INFORMATION CONTACT: Mr. Gary Kassof, Project Officer, First Coast Guard District, (212) 668-7165.

SUPPLEMENTARY INFORMATION:

Regulatory Information

The Route 280 (Stickel) Bridge has a vertical clearance of 35 feet at mean high water and 40 feet at mean low water. The existing regulations listed at 33 CFR 117.739(h), require the draw to open on signal after at least a twenty four hour advance notice is given.

The bridge owner, the New Jersey Department of Transportation, requested a temporary deviation from the drawbridge operation regulations to facilitate scheduled maintenance, testing for hazardous materials, at the bridge.

Under this temporary deviation the bridge may remain in the closed position from 8 a.m. to 4 p.m., on March 1, 2004.

The bridge has not opened for vessel traffic during the past ten years.

This deviation from the drawbridge operation regulations is authorized under 33 CFR 117.35, and will be performed with all due speed in order to return the bridge to normal operation as soon as possible.

Dated: February 17, 2004.
John L. Grenier,
Captain, U.S. Coast Guard, Acting Commander, First Coast Guard District.

[FR Doc. 04-4490 Filed 2-27-04; 8:45 am]

BILLING CODE 4910-15-P